NEIGHBORHOOD REINVESTMENT CORPORATION

Sunshine Act Meetings

TIME AND DATE: 3:30 p.m., Thursday, November 7, 2024

PLACE: via ZOOM

STATUS: Parts of this meeting will be open to the public. The rest of the meeting will be closed to the public.

MATTERS TO BE CONSIDERED: Audit Committee of the Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Sunshine Act Approval of Executive (Closed) Session

III. Executive Session: Quality Assurance Review (QAR) Report and Presentation by Cohn Reznick

IV. Executive Session: GAO Workplan Update

V. Executive Session: FY2024 External Audit Update

VI. Executive Session: Executive Session With Chief Audit Executive

VII. Action Item: Approval of Quality Assurance Review (QAR) by Cohn Reznick

VIII. Action Item: FY2025/26 Internal Audit Plan and Risk Assessment

IX. Action Item: Audit Review of Cyber-Attack Identification and Response

X. Discussion Item: Internal Audit Status Reports

XI. Discussion Item: Management Reports

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2024-25607 Filed 10-30-24; 4:15 pm]

BILLING CODE 7570-01-P